DEPARTMENT OF HOMELAND SECURITY

Transportation Security Administration

Intent To Request Approval From OMB of One New Public Collection of Information: Security Program for Hazardous Materials Motor Carriers & Shippers

AGENCY: Transportation Security Administration, DHS.

ACTION: 60-Day Notice.

SUMMARY: The Transportation Security Administration (TSA) invites public comment on a new information collection requirement abstracted below that we will submit to the Office of Management and Budget (OMB) for approval in compliance with the Paperwork Reduction Act. The collection involves the submission of security training program evaluation forms by hazardous materials (hazmat) motor carriers and shippers after participants have received the training.

DATES: Send your comments by January 20, 2009.

ADDRESSES: Comments may be mailed or delivered to Joanna Johnson, Communications Branch, Business Management Office, Operational Process and Technology, TSA-32, Transportation Security Administration, 601 South 12th Street, Arlington, VA 22202-4220.

FOR FURTHER INFORMATION CONTACT: Joanna Johnson at the above address, or by telephone (571) 227-3651 or facsimile (571) 227-3588.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

TSA's Highway & Motor Carrier Division will be producing a voluntary security-related training course for the hazmat motor carrier and shipper industry. Participants will be able to choose to attend instructor-led training sessions that TSA will conduct at multiple sites in the United States, and TSA will advise the industry of the availability of the training through trade associations, conferences, and stakeholder meetings. Hazmat motor carriers and shippers that are registered with the U.S. Department of Transportation (DOT) will automatically receive the training via CD-ROM and DVD. Companies may also complete the training on-line at the TSA public Web site, http://www.tsa.gov. The Web site training is available to the public and does not require a log-in or password. After completion of the training program, participants will have the option to complete a course evaluation form to comment on the effectiveness of the training program. The participants who choose to complete the training evaluation form will submit the form via e-mail to a secure Web surveyor tool that is managed by TSA. Participants who attend the classroom training sessions will also be asked to complete an evaluation form on-site, which will later be entered into the Web surveyor tool by TSA personnel. TSA will use this data to measure the program's effectiveness at achieving its goal of heightened security awareness levels throughout the hazmat motor carrier and shipper industry.

Hazmat motor carriers and shippers that are registered with the DOT are eligible to receive the training; there are approximately seventy-five thousand (75,000) shippers registered.

Currently, DOT requires awareness and in-depth security training for hazmat employees of persons required to have a security plan in accordance with subpart I of 49 CFR part 172 concerning the security plan and its implementation. See 49 CFR 172.704(a)(4)(5).¹ The training CD-ROM and DVD will provide the necessary training curriculum and tools to be incorporated into the companies' annual security training program. The approximate number of hazmat employees who potentially could participate in the training program via instructor-led sessions, CD-ROM, DVD, or the TSA public Web site could approach approximately one hundred thousand (100,000) employees, depending on the level of participation. The training will be produced and delivered in a format that will allow companies that choose to complete the evaluation to have their employees take the training program individually or in a classroom setting and receive a certificate for completion of the training program. This will allow companies to keep a copy of the employee's training certificate in their personnel training files in accordance with 49 CFR 172.704. Since security training is already a Federal requirement for the hazmat motor carrier and shipper industry, the subject motor carrier or shipper companies should only incur small incremental costs associated with taking the voluntary training program produced by TSA.

¹ This security training must include company security objectives, specific security procedures, employee responsibilities, actions to take in the event of a security breach, and the organizational security structure.

Purpose of Data Collection

As prescribed by the President in Homeland Security Presidential Directive 7 (HSPD-7), the Department of Homeland Security (DHS) is tasked with protecting our nation's critical infrastructure and key resources (CI/KR). Through the National Infrastructure Protection Plan (NIPP), DHS gives guidance and direction as to how the Nation will secure its infrastructure. Furthermore, HSPD-7 and the NIPP assigned the responsibility for infrastructure security in the transportation sector to TSA. To this effect, the NIPP further tasks each sector to build security partnerships, set security goals, and measure their effectiveness. Through its voluntary Corporate Security Review (CSR) Program, TSA's Highway and Motor Carrier Division has conducted security reviews of numerous hazmat motor carriers and shippers in order to analyze various aspects of each company's security program. Through this review process, TSA has determined that improved security awareness and in-depth training for hazmat motor carrier and shipper company employees would enhance security. To increase the security awareness levels across the hazmat motor carrier and shipper industries, TSA plans to develop and distribute a security awareness/in-depth training program and will request voluntary feedback from hazmat motor carrier and shipper companies that elect to receive the training.

Hazmat motor carrier and shipper companies can take the training via CD-ROM and DVD, during classroom training sessions, or via the TSA public Web site. For those taking the classroom training sessions, TSA will hand out an evaluation form to collect feedback regarding the security training program. Participants can also complete the evaluation form on-line after completing the training. TSA will collect the forms and evaluate the results. TSA will use the survey results to guide TSA on future hazmat motor carrier and shipper transportation security initiatives. TSA plans to conduct the data collection over a two- to three-year period in order to allow for maximum distribution and use of the training program throughout the industry, and for participating companies to complete full training cycles.

Description of Data Collection

TSA will ask participating companies that voluntarily complete the Security Awareness Training program via the CD-ROM to log on to a TSA-managed secure Web site to provide feedback on the effectiveness of the training. Participants that complete the training program via the classroom sessions will be asked to complete an evaluation form on-site after the training is completed. TSA's Highway & Motor Carrier Division staff will manually input the data into the Web surveyor tool system.

As part of the evaluation form, TSA will collect information such as employee position, type of company, knowledge of material before and after the training, and overall training satisfaction. TSA will not collect the respondent's personal information as part of the course evaluation form. TSA will use this data to measure the program's effectiveness at achieving its goal of heightened security awareness levels throughout the hazmat motor carrier and shipper industry.

Use of Results

The primary use of this information is to allow TSA to assess the effectiveness of the training program and training CD-ROM within the hazmat motor carrier and shipper industries. The secondary purpose of this information is for TSA to obtain, based on individual company input, an indication of participation levels throughout the hazmat motor carrier and shipper industries. This data will be kept for at least one year or long enough to collect a significant sample size (percentage) of the hazmat motor carrier and shipper industries to be used in identifying additional training needs to enhance the industry's security posture.

Frequency

Most companies administer their security awareness training curriculum on an annual or bi-annual cycle. Typically, companies will generate quarterly or annual reports on employee training progress. At other companies, employees may receive training periodically as needed and submit feedback via the evaluation form between one and four times per year, which TSA equates to an average frequency for this collection of two times per year. Thus, company employees would provide TSA feedback approximately once every two years.

Out of the approximately 75,000 individual hazmat motor carrier and shipper companies, TSA estimates that approximately 75 percent of the companies that receive the CD-ROM training will incorporate it into their training plans. This number can be assumed due to the current DOT requirement (49 CFR 172.704) for certain hazmat motor carriers and shippers to conduct security awareness and in-depth training for their hazmat employees. TSA assumes that 50 percent of those who take the training will provide feedback on the training program. TSA estimates the average hour burden per response per shipper/carrier company employee will be approximately 20 minutes. TSA estimates the total annual hour burden will be dependent on the number of company employees that participate per motor carrier/shipper company. Therefore, TSA estimates that the maximum total annual hour burden will be approximately 16,667 hours per year for all motor carrier/shipper industry participants [50,000 employees × 20 minutes = 16,667 hours].

Issued in Arlington, Virginia, on November 13, 2008.
Kurt Guyer,
Acting Program Manager, Business Improvements and Communications, Office of Information Technology.

[FR Doc. E8-27526 Filed 11-19-08; 8:45 am]

BILLING CODE 9110-05-P